DEPARTMENT OF TRANSPORTATION

Federal Aviation Administration

14 CFR Part 39

[Docket No. FAA-2008-0483; Directorate Identifier 2008-NM-006-AD]

RIN 2120-AA64

Airworthiness Directives; Empresa Brasileira de Aeronautica S.A. (EMBRAER) Model EMB-135 Airplanes, and Model EMB-145, -145ER, -145MR, -145LR, -145XR, -145MP, and -145EP Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

It has been found the occurrence of smoke in the flight deck originated from Pitot 1/2 and TAT 1/2 current sensor relays and [their] respective sockets, caused by poor electrical contacts between those relays and their sockets.

The unsafe condition is that smoke in the flight deck may interfere with the flightcrew's ability to operate the airplane. The proposed AD would require actions that are intended to address the unsafe condition described in the MCAI.

DATES: We must receive comments on this proposed AD by May 29, 2008.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, Washington 98057-3356; telephone (425) 227-1405; fax (425) 227-1149.

SUPPLEMENTARY INFORMATION:

Comments Invited

We invite you to send any written relevant data, views, or arguments about this proposed AD. Send your comments to an address listed under the ADDRESSES section. Include “Docket No. FAA-2008-0483; Directorate Identifier 2008-NM-006-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The Agência Nacional de Aviação Civil (ANAC), which is the aviation authority for Brazil, has issued Brazilian Airworthiness Directive 2007-11-04R1, effective December 21, 2007 (referred to after this as “the MCAI”), to correct an unsafe condition for the specified products. The MCAI states:

It has been found the occurrence of smoke in the flight deck originated from Pitot 1/2 and TAT 1/2 current sensor relays and [their] respective sockets, caused by poor electrical contacts between those relays and their sockets.

The unsafe condition is that smoke in the flight deck may interfere with the flightcrew's ability to operate the airplane. Corrective actions include inspecting for damage of the Pitot 1 and 2 and TAT 1 and 2 current sensor relays and sockets; and, as applicable, replacing the A1 and C1 electrical contacts of the sockets and reidentifying the sockets, replacing the sockets, and replacing current sensor relays. Damage may include melted points or stuck material of the silicone gasket, incorrect shape of the current sensor relay/sockets, discoloration of contacts, loose pin-type contacts, cracking or loose material of the polish and sealant of the bases, contaminants of the current sensor relays/sockets, and stuck material or roughness of the surface of the current sensor relay/pin-type contact. You may obtain further information by examining the MCAI in the AD docket.

Relevant Service Information

Embraer has issued Service Bulletin 145-30-0052, dated August 2, 2007; and Service Bulletin 145LEG-30-0019, dated August 28, 2007. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 704 products of U.S. registry. We also estimate that it would take about 8 work-hours per product to comply with the basic requirements of this proposed AD. The average labor rate is $80 per work-hour. Based on these figures, we estimate the cost of the proposed AD on U.S. operators to be $450,560, or $640 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Empresa Brasileira de Aeronautica S.A. (EMBRAER): Docket No. FAA-2008-0483; Directorate Identifier 2008-NM-006-AD.

Comments Due Date

(a) We must receive comments by May 29, 2008.

Affected ADs

(b) None.

Applicability

(c) This AD applies to Embraer Model EMB-135 airplanes and Model EMB-145, -145ER, -145MR, -145LR, -145XR, -145MP, and -145EP airplanes; certificated in any category; having serial numbers 145002 through 145362, 145364 through 145590, and 145592 through 14500987.

Subject

(d) Air Transport Association (ATA) of America Code 30: Ice and Rain Protection.

Reason

(e) The mandatory continuing airworthiness information (MCAI) states:

It has been found the occurrence of smoke in the flight deck originated from Pitot 1/2 and TAT 1/2 current sensor relays and [their] respective sockets, caused by poor electrical contacts between those relays and their sockets.

The unsafe condition is that smoke in the flight deck may interfere with the flightcrew's ability to operate the airplane. Corrective actions include inspecting for damage of the Pitot 1 and 2 and TAT 1 and 2 current sensor relays and sockets; and, as applicable, replacing the A1 and C1 electrical contacts of the sockets and reidentifying the sockets, replacing the sockets, and replacing current sensor relays. Damage may include melted points or stuck material of the silicone gasket, incorrect shape of the current sensor relay/sockets, discoloration of contacts, loose pin-type contacts, cracking or loose material of the polish and sealant of the bases, contaminants of the current sensor relays/sockets, and stuck material or roughness of the surface of the current sensor relay/pin-type contact.

Actions and Compliance

(f) Within 2,500 flight hours or 24 months after the effective date of this AD, whichever occurs first, unless already done, do the following actions in accordance with the Accomplishment Instructions of Embraer Service Bulletin 145-30-0052, dated August 2, 2007; or Service Bulletin 145LEG-30-0019, dated August 28, 2007; as applicable. Do all applicable replacements and re-identification before further flight.

(1) Perform a detailed inspection of the Pitot 1 (K0053), Pitot 2 (K0054), TAT 1 (K0064), and TAT 2 (K0494) current sensor relays for possible damage caused by overheating in their contacts, enclosure, and finishing material.

(i) If no damage is found on a current sensor relay, that relay may be reinstalled.

(ii) If any damage is found on a current sensor relay, replace the relay with a new relay having the same part number (P/N) CS500-060-D4A.

(2) Perform a detailed inspection on the Pitot 1 (XK0053), Pitot 2 (XK0054), TAT 1 (XK0064), and TAT 2 (XK0494) relay sockets for possible damage caused by overheating in their contacts, enclosure, and finishing material.

(i) If no damage is found on a socket, replace electrical contacts A1 and C1 of the socket with new contacts having P/N M39029/92-536; re-identify the socket from P/N S500-9140 to S500-9140-A; and re-identify the socket electrical code from XK0053, XK0054, XK0064, and XK0494, to XK1243, XK1242, XK1245, and XK1244, respectively.

(ii) If any damage is found on a socket, replace the socket with a new socket having P/N S500-9140-A or S500-9216.

Note 1: For the purpose of this AD, a detailed inspection (DET) is: “An intensive examination of a specific item, installation or assembly to detect damage, failure or irregularity. Available lighting is normally supplemented with a direct source of good lighting at an intensity deemed appropriate. Inspection aids such as mirrors, magnifying lenses, etc., may be necessary. Surface cleaning and elaborate access procedures may be required.”

FAA AD Differences

Note 2: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Sanjay Ralhan, Aerospace Engineer, International Branch, ANM-116, Transport Airplane Directorate, FAA, 1601 Lind Avenue SW., Renton, Washington 98057-3356; telephone (425) 227-1405; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI Brazilian Airworthiness Directive 2007-11-04R1, effective December 21, 2007; Embraer Service Bulletin 145-30-0052, dated August 2, 2007; and Embraer Service Bulletin 145LEG-30-0019, dated August 28, 2007; for related information.

Issued in Renton, Washington, on April 18, 2008.
Ali Bahrami,
Manager, Transport Airplane Directorate, Aircraft Certification Service.

[FR Doc. E8-9315 Filed 4-28-08; 8:45 am]

BILLING CODE 4910-13-P